DEPARTMENT OF COMMERCE

National Oceanic and Atmospheric Administration

[I.D. 010302A]

Pacific Fishery Management Council; Public Meeting

AGENCY: National Marine Fisheries Service (NMFS), National Oceanic and Atmospheric Administration (NOAA), Commerce.

ACTION: Notice of public meeting.

SUMMARY: A subcommittee of the Pacific Fishery Management Council's (Council) Ad Hoc Groundfish Strategic Plan Implementation Oversight Committee (SPOC) will hold a meeting which is open to the public.

DATES: The meeting will convene at 1 p.m. on Wednesday, January 30, 2002, recess when business for the day is completed, then reconvene at 8 a.m. Thursday, January 31, 2002, and adjourn at 10 a.m.

ADDRESSES: The meeting will be held in the West Conference Room at the Pacific Fishery Management Council, 7700 NE Ambassador Place, Suite 200, Portland, OR 97220-1384.

Council address: Pacific Fishery Management Council, 7700 NE Ambassador Place, Suite 200, Portland, Oregon 97220-1384.

FOR FURTHER INFORMATION CONTACT: Mr. Jim Seger, Fishery Economics Staff Officer, telephone: 503-326-6352.

SUPPLEMENTARY INFORMATION: The purpose of the meeting is to continue development of a SPOC subcommittee report on options for controlling capacity in the open access fishery. The SPOC subcommittee will discuss catch and participation analyses of the open access fishery, potential qualification criteria for permitting, and other data and issues relevant to capacity reduction in the open access fishery.

Although non-emergency issues not contained in the meeting agenda may come before the SPOC subcommittee for discussion, those issues may not be the subject of formal SPOC subcommittee action during this meeting. Action will be restricted to those issues specifically listed in this notice and any issues arising after publication of this notice requiring emergency action under section 305(c) of the Magnuson-Stevens Fishery Conservation and Management Act, provided the public has been notified of the SPOC subcommittee's intent to take final action to address the emergency.

Special Accommodations

This meeting is physically accessible to people with disabilities. Requests for sign language interpretation or other auxiliary aids should be directed to Ms. Carolyn Porter at 503-326-6352 at least 5 days prior to the meeting date.

Dated: January 3, 2002.
Richard W. Surdi,
Acting Director, Office of Sustainable Fisheries, National Marine Fisheries Service.

[FR Doc. 02-553 Filed 1-8-02; 8:45 am]

BILLING CODE 3510-22-S